Proclamation 10905 of March 18, 2025

National Poison Prevention Week, 2025

By the President of the United States of America

A Proclamation

During National Poison Prevention Week, my Administration is addressing the threat of overdose deaths in our Nation from accidental poisoning. By increasing community awareness, strengthening safety measures, and taking decisive action, we are building a new era of American strength, safety, security, and wellness.

Among the most serious threats facing our Nation is the rise of fentanyl, which is being trafficked illegally across our borders—a crisis of unimaginable proportions that escalated under the previous administration. Fentanyl and other deadly drugs flooded into our towns and cities, falling into the hands of our children, siblings, parents, friends, and neighbors. Fentanyl is the leading cause of death for Americans ages 18 to 45, with overdoses quickly becoming a leading cause of death for American teens—robbing countless innocent victims of their lives, futures, and dreams.

We cannot allow this devastation and vicious assault on the American people to continue. That is why, on my first day back in office, I directed the designation of cartels as foreign terrorist organizations, ensuring they are treated as a national security threat. I have imposed tariffs on China, Mexico, and Canada—sending a clear message that those fueling this crisis will be held accountable. United States Customs and Border Protection, along with United States Immigration and Customs Enforcement, are on the frontlines of this fight, having seized more than 1,600 pounds of fentanyl in my first 30 days in office. I will continue to do everything in my power to protect children and families, end drug addiction, and keep lethal substances out of our communities.

Every day, American families endure the devastating impact of preventable poisoning, whether from household chemicals, improper medication use, or the perilous danger of opioids like fentanyl. This week, my Administration urges all Americans to stay informed about the dangers of poisoning and take steps to protect their families. The Poison Help Line, 800-222-1222, is available around the clock, providing free, confidential guidance from medical experts. We will never stop fighting to achieve a future that protects its citizens, defends its communities, and ensures that the American people are happy, healthy, and free.

To encourage Americans to learn more about the dangers of unintentional poisonings and to take appropriate preventative measures, on September 26, 1961, the Congress, by joint resolution (75 Stat. 681), authorized and requested the President to issue a proclamation designating the third week of March each year as “National Poison Prevention Week.”

NOW, THEREFORE, I, DONALD J. TRUMP, President of the United States of America, do hereby proclaim March 16, 2025, through March 22, 2025, to be National Poison Prevention Week. I call upon all Americans to observe this week by taking actions to safeguard their families from poisonous products, chemicals, medicines, and drugs found in their homes, and to raise awareness about these dangers in order to prevent accidental injuries and deaths.

IN WITNESS WHEREOF, I have hereunto set my hand this eighteenth day of March, in the year of our Lord two thousand twenty-five, and of the Independence of the United States of America the two hundred and forty-ninth.

[FR Doc. 2025-04972

Filed 3-20-25; 8:45 am]

Billing code 3395-F4-P